DEPARTMENT OF THE INTERIOR

Bureau of Indian Affairs

Rate Adjustments for Indian Irrigation Projects

AGENCY: Bureau of Indian Affairs, Interior.

ACTION: Notice of rate adjustments.

SUMMARY: The Bureau of Indian Affairs (BIA) owns, or has an interest in, irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: Effective Date: The irrigation assessment rates shown in the tables as final are effective as of January 1, 2012.

FOR FURTHER INFORMATION CONTACT: For details about a particular BIA irrigation project or facility, please use the tables in the SUPPLEMENTARY INFORMATION section to contact the regional or local office where the project or facility is located.

SUPPLEMENTARY INFORMATION: A Notice of Proposed Rate Adjustment was published in the Federal Register on September 20, 2011 (76 FR 58293) to propose adjustments to the irrigation assessment rates at several BIA irrigation projects. The public and interested parties were provided an opportunity to submit written comments during the 60-day period that ended November 21, 2011.

Did the BIA defer or change any proposed rate increases?

No.

Did the BIA receive any comments on the proposed irrigation assessment rate adjustments?

Written comments were received related to the proposed rate adjustment for the San Carlos Irrigation Project for 2013.

What issues were of concern to the commenter?

The commenter raised concerns specific to the San Carlos Irrigation Project on the proposed rates about the following issues: (1) The methodology for O&M rate setting; and (2) the appropriateness of specific O&M budget items relating to obligated cash, staffing levels, encroachment permit fees, re-survey of the reservoir area/capacity table, emergency reserves, cylinder gate replacement at Coolidge Dam, and periodic adjustments in Project budgets.

The Following Comments Are Specific to the San Carlos Irrigation Project

Written comments relating to the proposed rate adjustment for the San Carlos Irrigation Project-Joint Works (Project) were received by letters dated July 15, 2011, August 26, 2011, and November 21, 2011, from the San Carlos Irrigation and Drainage District (District). The District raised several issues in its letters. The BIA's summary of the District's issues and the BIA's responses are provided below.

Comment: The BIA's methodology for setting the 2013 O&M assessment rate was unreasonable.

Response: The methodology used by the BIA to determine the 2013 O&M assessment rate was reasonable. Based on a review of historical income and expenditures, a budget of projected income and expenditures is developed approximately two years before the O&M assessments are collected and expenses incurred. The BIA relies on financial reports generated by the Federal Financial System for reviewing past expenditures and projecting a future budget and expenditures. Procurement files and records maintained by the Project are also reviewed and considered. For example, with regard to development of the 2013 budget, the BIA reviewed: (1) The year-end reconciled income and expenditure information for 2010; (2) available income and expenditure information for 2011; (3) previous budget projections for 2013; and (4) other information relevant to potential future Project expenses, such as cost information for replacement of Coolidge Dam cylinder gates.

The BIA provided the District with draft budget and supporting information and held budget fact-finding meetings on November 22, 2010, January 14, 2011, February 22, 2011, and March 23, 2011. The Project received feedback from the District and other water users during these meetings, and the Project finalized its recommendation to the Western Regional Director for the 2013 O&M assessment rate on May 5, 2011. In addition, in accordance with BIA policy, the BIA held meetings with Project water users (including the District) to discuss O&M rates and maintenance needs.

Issue: The BIA does not manage obligated cash properly, specifically with regard to the Transcon Contract.

Response: The Transcon Contract ended on September 30, 2011, and the Project de-obligated $56,335.15 of unexpended funds in the contract. These funds will be carried over as available cash for Project use in FY 2012.

Issue: The District objects to current and future staffing levels for the Project's Irrigation System Operators.

Response: The Project has been discussing the Irrigation System Operator (ISO) staffing levels with the water users, including the District, in recent years in response to the accidental deaths of two Project ISOs in 2006 and 2010. At the end of the Project fact finding process for 2010, the Project re-evaluated the ISO staffing levels, reduced the number of positions from four to three, and established the positions at GS 04/05 levels. The discussion with the water users on this matter, including the District, helped the Project to re-evaluate and implement appropriate measures for ISO staffing. The Project is in the process of recruiting the vacant ISO positions. The Project anticipates an annual savings of approximately $80,000 from this change in ISO staffing levels. The proposed O&M budget for 2013 reflects three ISO positions at the Project. The BIA understands that the ISO staffing levels may need to be re-evaluated in 3-5 years when rehabilitation of the Project Joint Works is completed by the District and the Gila River Indian Community pursuant to section 203(d) of the Arizona Water Settlements Act (Pub. L. 108-451).

Issue: The BIA should not use O&M collections to defray the Project costs for reviewing encroachment permit requests.

Response: Environmental compliance activities associated with the Project O&M responsibilities, such as encroachment permit requests, are funded through O&M assessments and collections from the District and from Federal appropriations on behalf of the Indian Works. The BIA is legally obligated to perform these compliance activities and they benefit Project water users by ensuring that the environmental effects of Project activities, are understood. The Project will continue to use either contracts or staff for Federal environmental compliance duties in furtherance of its O&M activities. The Project recently proposed a fee for encroachment permits and is in the process of finalizing a decision on the proposed fee. The Project notes that, historically, encroachment permits involve lands within the District. At the request of the water users, including the District, the Project is considering permit fees for encroachment permits which would help defray the Project costs for the permits.

Issue: The BIA should not use O&M collections to pay for the updated area/capacity table for San Carlos Reservoir.

Response: Coolidge Dam (Dam) and San Carlos Reservoir (Reservoir) are essential features of the Project. The Project's water delivery obligations from the Dam and Reservoir, pursuant to the Gila Decree and the Project's authorizing documents, require an accurate and up-to-date area/capacity table for the Reservoir. Therefore, the Project's use of O&M collections to update the Reservoir's area/capacity table is an appropriate use of O&M collections.

Issue: The Project's emergency reserve fund should be reduced.

Response: The Project's emergency reserve fund is within the range specified in the Emergency Reserve Fund Determination Guidelines in the August 2008 BIA National Irrigation Handbook. The BIA previously reduced the reserve fund from $800,000 to $400,000 following the transfer of certain maintenance responsibilities to the Joint Control Board. The BIA continues to be responsible for maintenance of Project wells and Coolidge Dam. Replacement of a single well is projected to cost between $250,000 and $300,000, and well replacement locations are being evaluated now based on technical assessments prepared by the Project and shared with the water users. The contract for well maintenance and repair services, which was awarded recently for the Project, involves routine annual well maintenance and repair and not well replacement costs. The BIA believes the reserve funds should be maintained as proposed, consistent with the Guidelines.

Issue: The amount budgeted for replacement of the Coolidge Dam cylinder gate should be reduced.

Response: Replacing the cylinder gates at Coolidge Dam with a single bulkhead gate is not appropriate. Replacing inoperable gates with a bulkhead gate for each tower provides the greatest security to Project water users. Using a single bulkhead gate to close both cylinder gates is inadvisable for several reasons: (1) The bulkhead gate may not fit in both gate towers because the towers likely do not have the same dimensions; (2) a crane capable of lifting the bulkhead gate may not be available locally or within a reasonable timeframe; (3) the single bulkhead gate could close only one conduit at a time; and (4) the road crossing the crest of the dam would need to be closed when the bulkhead gate is removed or installed.

The Project completed a technical review process with the water users, including the District, whereby all available technical and cost information related to the cylinder gates was reviewed and discussed. The Project's next step in the planning process is to update and finalize the detailed technical specifications and a government cost estimate. These documents will be used by the Project for construction solicitation pursuant to the Federal procurement process.

Issue: The Project makes material deviations from approved budgets without providing documentation and consultation with the District.

Response: The budget shared by the BIA during the Fact Finding process is not binding on the BIA. The BIA must update its O&M budget regularly to reflect actual expenditures and unplanned contingencies. The initial O&M budget cannot be expected to remain unchanged because it is prepared two years in advance of the fiscal year in which the Project performs the actual O&M work. The BIA provides the District with an update on the Project's budget at nearly every monthly District Board meeting, at regularly scheduled water user meetings, and upon specific request from the District. For the 2012 and 2013 O&M budgets, the BIA used templates proposed by the District to display the budget information.

Does this notice affect me?

This notice affects you if you own or lease land within the assessable acreage of one of our irrigation projects, or if you have a carriage agreement with one of our irrigation projects.

Where can I get information on the regulatory and legal citations in this notice?

You can contact the appropriate office(s) stated in the tables for the irrigation project that serves you, or you can use the Internet site for the Government Printing Office at www.gpo.gov.

What authorizes you to issue this notice?

Our authority to issue this notice is vested in the Secretary of the Interior by 5 U.S.C. 301 and the Act of August 14, 1914 (38 Stat. 583; 25 U.S.C. 385). The Secretary has in turn delegated this authority to the Assistant Secretary—Indian Affairs under Part 209, Chapter 8.1A, of the Department of the Interior's Departmental Manual.

Whom can I contact for further information?

The following tables are the regional and project/agency contacts for our irrigation projects and facilities:

Project name | Project/Agency contacts
Northwest Region Contacts
Stanley Speaks, Regional Director, Bureau of Indian Affairs, Northwest Regional Office, 911 N.E. 11th Avenue, Portland, Oregon 97232-4169, Telephone: (503) 231-6702
Fort Hall Irrigation Project | Dean Fox, Superintendent, Fort Hall Agency, P.O. Box 220, Fort Hall, ID 83203-0220, Telephone: (208) 238-2301.
Wapato Irrigation Project | Edwin Lewis, Project Administrator, Wapato Irrigation Project, P.O. Box 220, Wapato, WA 98951-0220, Telephone: (509) 877-3155.
Rocky Mountain Region Contacts
Ed Parisian, Regional Director, Bureau of Indian Affairs, Rocky Mountain Regional Office, 316 North 26th Street, Billings, Montana 59101, Telephone: (406) 247-7943.
Blackfeet Irrigation Project | Stephen Pollock, Superintendent, Greg Tatsey, Irrigation Project Manager, Box 880, Browning, MT 59417, Telephones: (406) 338-7544, Superintendent, (406) 338-7519, Irrigation Project Manager.
Crow Irrigation Project | Vianna Stewart, Superintendent, Vacant, Irrigation Project Manager, P.O. Box 69, Crow Agency, MT 59022, Telephones: (406) 638-2672, Superintendent, (406) 638-2863, Irrigation Project Manager.
Fort Belknap Irrigation Project | Cliff Hall, Superintendent, Vacant, Irrigation Project Manager, (Project operations and management contracted to Tribes), R.R.1, Box 980, Harlem, MT 59526, Telephones: (406) 353-2901, Superintendent, (406) 353-8454, Irrigation Project Manager (Tribal Office).
Fort Peck Irrigation Project | Rhonda Knudsen, Superintendent, P.O. Box 637, Poplar, MT 59255, Huber Wright, Acting Irrigation Project Manager, 602 6th Avenue North, Wolf Point, MT 59201, Telephones: (406) 768-5312, Superintendent, (406) 653-1752, Irrigation Project Manager.
Wind River Irrigation Project | Ed Lone Fight, Superintendent, Vacant, Irrigation Project Manager, P.O. Box 158, Fort Washakie, WY 82514, Telephones: (307) 332-7810, Superintendent, (307) 332-2596, Irrigation Project Manager.
Southwest Region Contacts
William T. Walker, Regional Director, Bureau of Indian Affairs, Southwest Regional Office, 1001 Indian School Road, Albuquerque, New Mexico 87104, Telephone: (505) 563-3100.
Pine River Irrigation Project | John Waconda, Superintendent, Reginald Howe, Irrigation Systems Operator, Irrigation Engineer, P.O. Box 315, Ignacio, CO 81137-0315, Telephones: (970) 563-4511, Superintendent, (970) 563-9484, Irrigation Engineer.
Western Region Contacts
Bryan Bowker, Regional Director, Bureau of Indian Affairs, Western Regional Office, 2600 N. Central Ave., 4th Floor Mailroom, Phoenix, Arizona 85004, Telephone: (602) 379-6600.
Colorado River Irrigation Project | Janice Staudte, Superintendent, Gary Colvin, Acting Irrigation Project Manager, 12124 1st Avenue, Parker, AZ 85344, Telephone: (928) 669-7111.
Duck Valley Irrigation Project | Joseph McDade, Superintendent, 1555 Shoshone Circle, Elko, NV 89801, Telephone: (775) 738-0569.
Fort Yuma Irrigation Project | Irene Herder, Superintendent, 256 South Second Avenue, Suite D, Yuma, AZ 85364, Telephone: (928) 782-1202.
San Carlos Irrigation Project Joint Works | Ferris Begay, Acting Project Manager, Clarence Begay, Irrigation Manager, P.O. Box 250, Coolidge, AZ 85228, Telephone: (520) 723-6203.
San Carlos Irrigation Project Indian Works | Cecilia Martinez, Superintendent, Joe Revak, Supervisory General Engineer, Pima Agency, Land Operations, P.O. Box 8, Sacaton, AZ 85247, Telephone: (520) 562-3326, Telephone: (520) 562-3372.
Uintah Irrigation Project | Dinah Peltier, Acting Superintendent, Dale Thomas, Irrigation Manager, P.O. Box 130, Fort Duchesne, UT 84026, Telephone: (435) 722-4300, Telephone: (435) 722-4341.
Walker River Irrigation Project | Athena Brown, Superintendent, 311 E. Washington Street, Carson City, NV 89701, Telephone: (775) 887-3500.

What irrigation assessments or charges are adjusted by this notice?

The rate table below contains the current rates for all irrigation projects where we recover costs of administering, operating, maintaining, and rehabilitating them. The table also contains the final rates for the 2012 season and subsequent years where applicable. An asterisk immediately following the name of the project notes where the 2012 rates are different from the 2011 rates.

Project name | Rate category | Final 2011 rate | Final 2012 rate
Fort Hall Irrigation Project * | Basic per acre | $42.00 | $45.50
| Minimum Charge per tract | 31.50 | 32.50
Fort Hall Irrigation Project—Minor Units * | Basic per acre | 22.50 | 23.50
| Minimum Charge per tract | 31.50 | 32.50
Fort Hall Irrigation Project—Michaud * | Basic per acre | 43.00 | 45.00
| Pressure per acre | 59.50 | 62.00
| Minimum Charge per tract | 31.50 | 32.50
Wapato Irrigation Project—Toppenish/Simcoe Units * | Minimum Charge for per bill | 17.00 | 20.00
| Basic per acre | 17.00 | 20.00
Wapato Irrigation Project—Ahtanum Units * | Minimum Charge per bill | 17.00 | 20.00
| Basic per acre | 17.00 | 20.00
Wapato Irrigation Project—Satus Unit * | Minimum Charge for per bill | 63.00 | 65.00
| “A” Basic per acre | 63.00 | 65.00
| “B” Basic per acre | 70.00 | 70.00
Wapato Irrigation Project—Additional Works | Minimum Charge per bill | 67.00 | 67.00
| Basic per acre | 67.00 | 67.00
Wapato Irrigation Project—Water Rental | Minimum Charge | 72.00 | 72.00
| Basic per acre | 72.00 | 72.00
Rocky Mountain Region Rate Table
Blackfeet Irrigation Project | Basic-per acre | 19.00 | 19.00
Crow Irrigation Project—Willow Creek O&M (includes Agency, Lodge Grass #1, Lodge Grass #2, Reno, Upper Little Horn, and Forty Mile Units) * | Basic-per acre | 22.80 | 23.30
Crow Irrigation Project—All Others (includes Bighorn, Soap Creek, and Pryor Units) * | Basic-per acre | 22.50 | 23.00
Crow Irrigation Two Leggins Drainage District | Basic-per acre | 2.00 | 2.00
Fort Belknap Irrigation Project | Basic-per acre | 14.75 | 14.75
Fort Peck Irrigation Project | Basic-per acre | 24.70 | 24.70
Wind River Irrigation Project | Basic-per acre | 20.00 | 20.00
Wind River Irrigation Project—LeClair District * (see Note #1) | Basic-per acre | 21.00 | 20.00
Wind River Irrigation Project—Crow Heart Unit | Basic-per acre | 14.00 | 14.00
Wind River Irrigation Project—Riverton Valley Irrigation District | Basic-per acre | 16.00 | 16.00
Southwest Region Rate Table
Pine River Irrigation Project | Minimum Charge per tract | 50.00 | 50.00
| Basic-per acre | 15.00 | 15.00

Project name | Rate category | Final 2011 rate | Final 2012 rate | Final 2013 rate
Western Region Rate Table
Colorado River Irrigation Project | Basic per acre up to 5.75 acre-feet | $54.00 | $54.00 | To be determined.
| Excess Water per acre-foot over 5.75 acre-feet | $17.00 | $17.00
Duck Valley Irrigation Project | Basic per acre | $5.30 | $5.30
Fort Yuma Irrigation Project (See Note #2) | Basic per acre up to 5.0 acre-feet | $86.00 | $86.00—BIA rate is final, Reclamation rate to be determined, see Note #2
| Excess Water per acre-foot over 5.0 acre-feet | $14.00 | $14.00—BIA rate is final, Reclamation rate to be determined, see Note #2
| Basic per acre up to 5.0 acre-feet (Ranch 5) | $86.00 | $86.00—BIA rate is final, Reclamation rate to be determined, see Note #2
San Carlos Irrigation Project (Joint Works) * (See Note #3) | Basic per acre | $25.00 | $30.00 | $30.00.
| Proposed 2012—2013 Construction Water Rate Schedule:
|  | Off Project Construction | On Project Construction—Gravity Water | On Project Construction—Pump Water
| Administrative Fee | $300.00 | $300.00 | $300.00
| Usage Fee | $250.00 per month | No Fee | $100.00 per acre-foot.
| Excess Water Rate † | $5 per 1000 gal | No charge | No charge.
| † The excess water rate applies to all water used in excess of 50,000 gallons in any one month.
San Carlos Irrigation Project (Indian Works) * (See Note #4) | Basic per acre | $68.00 | $73.00 | To be determined.
Uintah Irrigation Project * | Basic per acre | $15.00 | $16.00
| Minimum Bill | $25.00 | $25.00
Walker River Irrigation Project * | Indian per acre | $22.00 | $25.00
| non-Indian per acre | $22.00 | $25.00
* Notes irrigation projects where rates are proposed for adjustment.
Note #1—The O&M rate varies yearly based upon the budget submitted by the LeClair District.
Note #2—The O&M rate for the Fort Yuma Irrigation Project has two components. The first component is the O&M rate established by the Bureau of Reclamation (BOR), the owner and operator of the Project. The BOR rate for 2012 is yet to be determined. The second component is for the O&M rate established by BIA to cover administrative costs including billing and collections for the Project. The 2012 BIA rate has been reduced to $1.50/acre. The rates shown include the 2011 Reclamation rate and the 2012 BIA rate.
Note #3—The 2012 rate was established by final notice in the Federal Register on May 9, 2011 (76 FR 26759). In addition, a Construction Water Rate Schedule for the San Carlos Irrigation Project—Joint Works is now being formally established. The rate schedule establishes the fees assessed for use of irrigation water for non-irrigation purposes.
Note #4—The 2012 O&M rate for the San Carlos Irrigation Project—Indian Works has three components. The first component is the O&M rate established by the San Carlos Irrigation Project—Indian Works, the owner and operator of the Project; this rate is proposed to be $35 per acre. The second component is for the O&M rate established by the San Carlos Irrigation Project—Joint Works and is determined to be $30 per acre. The third component is the O&M rate established by the San Carlos Irrigation Project Joint Control Board and is proposed to be $8 per acre.

Consultation and Coordination With Tribal Governments (Executive Order 13175)

To fulfill its consultation responsibility to tribes and tribal organizations, BIA communicates, coordinates, and consults on a continuing basis with these entities on issues related to water delivery, water availability, and costs of administration, operation, maintenance, and rehabilitation of projects that concern them. This is accomplished at the individual irrigation project by Project, Agency, and Regional representatives, as appropriate, in accordance with local protocol and procedures. This notice is one component of our overall coordination and consultation process to provide notice to these entities when we adjust irrigation assessment rates.

Actions Concerning Regulations That Significantly Affect Energy Supply, Distribution, or Use (Executive Order 13211)

The rate adjustments will have no adverse effects on energy supply, distribution, or use (including a shortfall in supply, price increases, and increase use of foreign supplies) as this rate adjustment is implemented. This is a notice for rate adjustments at BIA-owned and operated irrigation projects, except for the Fort Yuma Irrigation Project. The Fort Yuma Irrigation Project is owned and operated by the Bureau of Reclamation with a portion serving the Fort Yuma Reservation.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on State, local, or tribal governments in the aggregate, or on the private sector, of more than $130 million per year. The rule does not have a significant or unique effect on State, local, or tribal governments or the private sector. Therefore, the Department of the Interior (Department) is not required to prepare a statement containing the information required by the Unfunded Mandates Reform Act (2 U.S.C. 1531 et seq.).

Takings (Executive Order 12630)

The Department has determined that these rate adjustments do not have significant “takings” implications. The rate adjustments do not deprive the public, state, or local governments of rights or property.

Federalism (Executive Order 13132)

The Department has determined that these rate adjustments do not have significant Federalism effects because they will not affect the States, the relationship between the national government and the States, or the distribution of power and responsibilities among various levels of government.

Civil Justice Reform (Executive Order 12988)

In issuing this rule, the Department has taken the necessary steps to eliminate drafting errors and ambiguity, minimize potential litigation, and provide a clear legal standard for affected conduct, as required by section 3 of Executive Order 12988.

Paperwork Reduction Act of 1995

These rate adjustments do not affect the collections of information which have been approved by the Office of Information and Regulatory Affairs, Office of Management and Budget, under the Paperwork Reduction Act of 1995. The OMB Control Number is 1076-0141 and expires December 31, 2012.

National Environmental Policy Act

The Department has determined that these rate adjustments do not constitute a major Federal action significantly affecting the quality of the human environment and that no detailed statement is required under the National Environmental Policy Act of 1969 (42 U.S.C. 4321-4370(d)).

Data Quality Act

In developing this notice, we did not conduct or use a study, experiment, or survey requiring peer review under the Information Quality Act (Pub. L. 106-554).

Dated: February 9, 2012.
Larry Echo Hawk,
Assistant Secretary, Indian Affairs.

[FR Doc. 2012-4200 Filed 2-22-12; 8:45 am]

BILLING CODE 4310-W7-P